DEPARTMENT OF STATE

[Public Notice 6422]

Receipt of Application for a Permit for Pipeline Facilities To Be Constructed and Maintained on the Borders of the United States

The Department of State has received an application from TransCanada Keystone Pipeline, L.P. (“Keystone”), for a Presidential permit, pursuant to Executive Order 13337 of April 30, 2004, to construct, connect, operate, and maintain the Keystone XL Pipeline Project at the U.S.-Canadian border at Phillips County, Montana, for the purpose of transporting Canadian crude oil production from the Western Canadian Sedimentary Basin (“WCSB”) to existing terminals in the Texas Gulf Coast area.

Keystone is a limited liability company, organized under the laws of the State of Delaware, and owned equally by affiliates of TransCanada Corporation, a Canadian public company organized under the laws of Canada, and ConocoPhillips Company, a Delaware corporation. Keystone's primary business address is 450 1st Street, SW., Calgary, Alberta, Canada T2P 5H1. Although Keystone is seeking a permit for solely that portion of the pipeline crossing the international border (up to the first pipeline isolation valve to be located in the United States approximately 1.2 miles from the United States-Canada border), the length of the proposed new pipeline would consist in the U.S. of 1,375 miles of 36-inch diameter pipeline installed in three segments: The 850 mile-long “Steele City” segment from the U.S. border to Steele City, Nebraska; the 478 mile-long “Gulf Coast” segment from Cushing, Oklahoma to Nederland, Texas; and the 47 mile-long “Houston Lateral” segment from Liberty County, Texas to the Moore Junction area in Harris County, Texas. In Canada, 327 miles of 36-inch pipeline will be constructed from Hardisty, Alberta to Monchy, Saskatchewan where it will cross the U.S.-Canadian border into Phillips County, Montana.

As required by E.O. 13337, the Department of State is circulating this application to concerned federal agencies for comment. The Department anticipates that additional information concerning the Keystone XL Pipeline Project will be developed during the course of processing the permit application.

DATES: Interested parties are invited to submit, in duplicate, comments relative to this proposal on or before December 4, 2008 to J. Brian Duggan, Room 4843, Office of International Energy and Commodity Policy, Department of State, Washington, DC 20520. The application and related documents that are part of the record to be considered by the Department of State in connection with this application are available for inspection in the Office of International Energy and Commodity Policy during normal business hours.

FOR FURTHER INFORMATION CONTACT: J. Brian Duggan, Office of International Energy and Commodity Policy, Department of State, Washington, DC 20520, telephone 202-647-1291, facsimile 202-647-8758, e-mail DugganJB@state.gov.

Dated: October 22, 2008.
Stephen J. Gallogly,
Director, Office of International Energy and Commodity Policy, Department of State.

[FR Doc. E8-26259 Filed 11-3-08; 8:45 am]

BILLING CODE 4710-07-P